DEPARTMENT OF AGRICULTURE

Office of the Secretary

Notice of Appointment of Members to the National Agricultural Research, Extension, Education, and Economics Advisory Board

AGENCY: Research, Education, and Economics, USDA.

ACTION: Appointment of members.

SUMMARY: In accordance with the Federal Advisory Committee Act, 5 U.S.C. App 2, the United States Department of Agriculture announces the appointments made by the Secretary of Agriculture to 9 member positions of the National Agricultural Research, Extension, Education, and Economics Advisory Board.

DATES: Appointments by the Secretary of Agriculture are for a 1, 2, or 3-year term, effective October 1, 2010 until September 30, 2013.

ADDRESSES: National Agricultural Research, Extension, Education, and Economics Advisory Board; Research Extension, Education, and Economics Advisory Board Office, Room 3901, South Building, U.S. Department of Agriculture; STOP 3401; 1400 Independence Avenue, SW., Washington, DC 20250-2255.

FOR FURTHER INFORMATION CONTACT: J. Robert Burk, Executive Director, Research, Education, and Economics Advisory Board Office, Room 3901, South Building, U.S. Department of Agriculture, STOP: 0321, 1400 Independence Avenue, SW., Washington, DC 20250-0321. Telephone: 202-720-3684. Fax: 202-720-6199, or e-mail: Robert.burk@ars.usda.gov.

SUPPLEMENTARY INFORMATION: Section 802 of the Federal Agricultural Improvement and Reform Act of 1996 authorized the creation of the National Agricultural Research, Extension, Education, Economics Advisory Board. The Board is composed of 25 members, each representing a specific category related to agriculture. The Board was first appointed in September 1996 and at the time one-third of the original members were appointed for one, two, and three-year term, respectively. Due to the staggered appointments, the terms for 8 of the 25 members expired September 2010. One additional member position was vacant. Each member is appointed by the Secretary of Agriculture to a specific category on the Board, including farming or ranching, food production and processing, forestry research, crop and animal science, land-grant institutions, non-land grant college or university with a historic commitment to research in the food and agricultural sciences, food retailing and marketing, rural economic development, and natural resource and consumer interest groups, among many others. Appointees by vacancy category of the 8 new members and 1 re-appointed member are as follows: Category F. “National Food Animal Science Society,” Nancy M. Cox, Director, Kentucky Agricultural Experiment Station and Associate Dean for Research, University of Kentucky, Lexington, KY (re-appointment); Category G. “National Crop, Soil, Agronomy, Horticulture, or Weed,” Robert W. Taylor, Dean, School of Agricultural and Environmental Sciences, Alabama A&M University, Normal, AL; Category K. “1862 Land-Grant Colleges and Universities,” Milo J. Shult, Vice President for Agriculture, University of Arkansas Division of Agriculture, Little Rock, AR; Category L. “1890 Land-Grant Colleges and Universities, Chandra Reddy, Dean, School of Agriculture and Consumer Sciences, Tennessee State University; Category P. “American Colleges of Veterinary Medicine,” Cyril R. Clark, Dean, College of Veterinary Medicine, Oregon State University, Corvallis, OR, Category T. “Rural Economic Development,” Jeanette T. Ishii, Economic Development Coordinator, Fresno County Administrative Office, Fresno, CA; Category U. “National Consumer Interest Group,” Rita W. Green, Family Resource Management Extension Agent, Mississippi State University, Grenada, MS; Category V. “National Forestry Group,” Steven Daley-Laursen, Senior Executive to the President and Professor, Office of the President, University of Idaho, Moscow, ID; Category W. “National Conservation or Natural Resource Groups,” Carrie L. Castille, Deputy Assistant Commissioner, Louisiana Department of Agriculture & Forestry, Baton Rouge, LA.

Done at Washington, DC, this 29th day of October 2010.
Catherine Woteki,
Under Secretary, Research, Education, and Economics.

[FR Doc. 2010-28147 Filed 11-5-10; 8:45 am]

BILLING CODE P